DEPARTMENT OF TRANSPORTATION

Federal Aviation Administration

14 CFR Chapter 1

[Docket No. FAA-2012-0754]

Airport Improvement Program (AIP): Policy Regarding Access to Airports From Residential Property; Correction

AGENCY: Federal Aviation Administration (FAA), DOT.

ACTION: Proposed policy; implementation of Section 136; opportunity to comment; correction and extension of time to comment.

SUMMARY: The FAA is correcting an inadvertent omission in the Addresses paragraph in the Proposed Policy Regarding Access to Airports From Residential Property that was published in the Federal Register on July 30, 2012. The FAA is also extending the comment period to September 14, 2012.

DATES: The comment period for the proposed policy document published July 30, 2012 (77 FR 44515), is extended to September 14, 2012.

FOR FURTHER INFORMATION CONTACT: Randall S. Fiertz, telephone: (202) 267-3085; facsimile: (202) 267-5257; email: randall.fiertz@faa.gov.

SUPPLEMENTARY INFORMATION:

Need for Correction

On July 30, 2012, the Federal Aviation Administration published a Notice of Proposed Policy in the Federal Register at 77 FR 44515 proposing an FAA policy, based on Federal law, concerning through-the-fence access to a federally obligated airport from an adjacent or nearby property, when that property is used as a residence. The Notice also proposed to limit application of the FAA's previously published interim policy (76 FR 15028; March 18, 2011) to commercial service airports that certified existing residential through-the-fence access agreements and rescind applicability of this interim policy with regard to certain general aviation airports consistent with section 136 of Public Law 112-95. In addition, that notice described how the FAA will interpret provisions of the law pertaining to residential through-the-fence access and invited comments.

There was an inadvertent omission in the Notice which FAA is correcting through this amendment. In the Addresses paragraph, the FAA inadvertently omitted the applicable Department of Transportation Docket Number.

Correction

In the document published on July 30, 2012 (77 FR 44515) FR Doc. 2010-18058, on page 44515 in column 3, under the heading ADDRESSES paragraph of this document, replace “Docket Number FAA-2012-XXX” with “Docket Number FAA-2012-0754”.

Extension of Time To Comment

The Experimental Aircraft Association requested the FAA extend the comment period an additional two weeks. The FAA believes this is a reasonable request and hereby extends the comment period to September 14, 2012.

Dated: Issued in Washington, DC, on August 22, 2012.
Randall S. Fiertz,
Director, Airport Compliance and Management Analysis.

[FR Doc. 2012-21147 Filed 8-27-12; 8:45 am]

BILLING CODE 4910-13-P